DEPARTMENT OF THE INTERIOR

Fish and Wildlife Service

Receipt of Applications for Permit

AGENCY: Fish and Wildlife Service, Interior.

ACTION: Notice of receipt of applications for permit.

SUMMARY: The public is invited to comment on the following applications to conduct certain activities with endangered species and/or marine mammals.

DATES: Written data, comments or requests must be received by December 15, 2003.

ADDRESSES: Documents and other information submitted with these applications are available for review, subject to the requirements of the Privacy Act and Freedom of Information Act, by any party who submits a written request for a copy of such documents within 30 days of the date of publication of this notice to: U.S. Fish and Wildlife Service, Division of Management Authority, 4401 North Fairfax Drive, Room 700, Arlington, Virginia 22203; fax 703/358-2281.

FOR FURTHER INFORMATION CONTACT: Division of Management Authority, telephone 703/358-2104.

SUPPLEMENTARY INFORMATION:

Endangered Species

The public is invited to comment on the following application(s) for a permit to conduct certain activities with endangered species. This notice is provided pursuant to section 10(c) of the Endangered Species Act of 1973, as amended (16 U.S.C. 1531, et seq.). Written data, comments, or requests for copies of these complete applications should be submitted to the Director (address above).

Applicant: Wildlife Conservation Society, Bronx Zoo, Bronx, New York, PRT-078634.

The applicant requests a permit to import 3.2 captive born lesser mouse lemurs, (Microcebus murinus) from the Paris Zoo, Paris, France, for the purpose of enhancement of the survival of the species.

Applicant: Carlyle F. Griffin, Morrison, CO, PRT-078659.

The applicant requests a permit to import the sport-hunted trophy of one male bontebok (Damaliscus pygargus dorcas) culled from a captive herd maintained under the management program of the Republic of South Africa, for the purpose of enhancement of the survival of the species.

Applicant: Kevin F. Tenborg, Lincoln, CA, PRT-078689.

The applicant requests a permit to import the sport-hunted trophy of one male bontebok (Damaliscus pygargus dorcas) culled from a captive herd maintained under the management program of the Republic of South Africa, for the purpose of enhancement of the survival of the species.

Applicant: Homer H. Tompkins III, Roseville, MN, PRT-078771.

The applicant requests a permit to import the sport-hunted trophy of one male bontebok (Damaliscus pygargus dorcas) culled from a captive herd maintained under the management program of the Republic of South Africa, for the purpose of enhancement of the survival of the species.

Applicant: Brigham Young University, Dept. of Integrative Biology, Provo, UT, PRT-076005 and PRT-006998.

The applicant requests a permit to import biological samples taken from wild and/or captive held tartaruga (Podocnemis expansa) and yellow-spotted river turtles (Podocnemis unifilis) from Brazil and or Venezuela as well as return such samples to Brazil and or Venezuela for the purpose of scientific research. This notification covers activities to be conducted by the applicant over a five-year period.

Applicant: U.S. Fish and Wildlife Service, Laramie, WY, PRT-078822.

The applicant requests a permit to import live specimens, biological samples and salvage materials from captive-bred and/or wild specimens of black-footed ferret (Mustela nigripes) from Mexico, to enhance the survival of the species through completion of identified tasks and objectives mandated under the Black-Footed Ferret Recovery Plan. Biological samples and salvaged materials may include, but are not limited to, blood, tissue, feces, hair, whole or partial dead specimens. This notification covers activities to be conducted by the applicant over a five-year period.

Applicant: George Carden Circus International, Springfield, MO, PRT-070854.

The applicant requests a permit to export and re-import one wild born Asian elephant (Elephas maximus) to worldwide locations for the purpose of enhancement of the species through conservation education. This notification covers activities to be conducted by the applicant over a three-year period and the import of any potential progeny born while overseas.

Dated: October 24, 2003.
Charles S. Hamilton,
Senior Permit Biologist, Branch of Permits, Division of Management Authority.

[FR Doc. 03-28517 Filed 11-13-03; 8:45 am]

BILLING CODE 4310-55-P